DEPARTMENT OF JUSTICE

Antitrust Division

Notice Pursuant to the National Cooperative Research and Production Act of 1993—National Shipbuilding Research Program (“NSRP”)

Correction

In notice document 04-4840 appearing on page 10263 in the issue of Thursday, March 4, 2004, make the following correction:

On page 10263, in the second column, in the first paragraph, in the second line, “February 17, 2994”, should read, “February 17, 2004”.

[FR Doc. C4-4840 Filed 3-11-04; 8:45 am]

BILLING CODE 1505-01-D

DEPARTMENT OF TRANSPORTATION

Federal Aviation Administration

14 CFR Part 71

[Docket No. FAA-2003-16180; Airspace Docket No. 03-AEA-14]

Amendment of Class E Airspace; New York, NY

Correction

In rule document 03-31026 beginning on page 70137 in the issue of December 17, 2003, make the following correction:

§71.1 [Corrected]

On page 70138, in §71.1, in the first column, under the heading “AEA NY E5 New York, NY (Revised)” in the 18th line, “Mewburgh” should read “Newburgh”.

[FR Doc. C3-31026 Filed 3-11-04; 8:45 am]

BILLING CODE 1505-01-D